ENVIRONMENTAL PROTECTION AGENCY

[ER-FRL-8798-4]

Environmental Impact Statements and Regulations; Availability Of EPA Comments

Availability of EPA comments prepared pursuant to the Environmental Review Process (ERP), under section 309 of the Clean Air Act and Section 102(2)(c) of the National Environmental Policy Act as amended. Requests for copies of EPA comments can be directed to the Office of Federal Activities at 202-564-7146 or http://www.epa.gov/compliance/nepa/.

An explanation of the ratings assigned to draft environmental impact statements (EISs) was published in FR dated July 17, 2009 (74 FR 34754).

Draft EISs

EIS No. 20090083, ERP No. D-AFS-L65570-00, Rogue River-Siskiyou National Forest, Motorized Vehicle Use, To Enact the Travel Management Rule, Implementation, Douglas, Klamath, Jackson, Curry, Coos and Josephine Counties, OR and Del Norte and Siskiyou Counties, CA.

Summary: EPA expressed environmental concerns about the adequacy of information available to analyze the risk of exposure to naturally occurring asbestos. EPA also raised concerns related to provisions for dispersed recreation and implementation and adaptive management planning. Rating EC2.

EIS No. 20090124, ERP No. D-NOA-B91030-00, Amendment 16 to the Northwest Multispecies Fishery Management Plan, Propose to Adopt, Approval and Implementation Measures to Continue Formal Rebuilding Program for Overfishing and to End Overfishing on those Stock where it's Occurring, Gulf of Maine.

Summary: EPA had no objections and offered minor comments on the DEIS. Rating LO.

EIS No. 20090223, ERP No. D-AFS-K65373-NV, Jarbidge Ranger District Rangeland Management Project, Proposed Reauthorizing Grazing on 21 Existing Grazing Allotments, Humboldt Toiyabe National Forest, Elko County, NV.

Summary: EPA expressed environmental concerns about the achievability of annual use indicators under the proposed action, and requested additional information on implementation and permittee compliance. EPA recommended more specific action be taken to protect stream banks and prevent noxious weed spread. Rating EC2.

EIS No. 20090250, ERP No. D-IBR-K39119-NV, Walker River Basin Acquisition Program, To Provide Water to Walker Lake, an at Risk Natural Desert Terminal Lake, Funding, Walker River Basin, NV.

Summary: EPA expressed environmental concerns about the long-term feasibility of the water Acquisition Program given constrained water supplies and climate change; compliance with Total Maximum Daily Load requirements; and disclosure of mitigation measures. Rating EC2.

EIS No. 20090265, ERP No. D-AFS-L65576-ID, Clearwater National Forest Travel Planning Project, Proposes to Manage Motorized and Mechanized Travel within the 1,827.380-Acre, Clearwater National Forest, Idaho, Clearwater, Latah and Shoshone Counties, ID.

Summary: EPA expressed environmental concerns about potential impacts to water quality, fisheries, riparian habitat and soils. EPA recommends the incorporation of additional water quality emphasis elements. Rating EC2.

Final EISs

EIS No. 20090304, ERP No. F-AFS-K65354-00, Inyo National Forest Motorized Travel Management Project, Implementation, Inyo, Mono, Fresno, Madera and Tulare Counties, CA and Mineral and Esmeralda Counties, NV.

Summary: EPA continues to have environmental concerns about the scope of the travel management planning process and potential impacts from the designation of associated routes to water resources.

EIS No. 20090305, ERP No. F-NOA-K39122-CA, ADOPTION—PROGRAMMATIC—South Bay Salt Pond Restoration Project, Restored Tidal Marsh, Managed Ponds, Flood Control Measures and Public Access Features, Don Edward San Francisco Bay National Wildlife Refuge, Alameda, Santa Clara and San Mateo Counties, CA.

Summary: EPA does not object to the adoption of the FEIS.

EIS No. 20090311, ERP No. F-USN-L11040-WA, Naval Base Kitsap—Bangor, Construct and Operate a Swimmer Interdiction Security System (SISS), Silverdale Kitsap County, WA.

Summary: No formal comment letter was sent to the preparing agency.

EIS No. 20090316, ERP No. F-FAA-A12046-00, PROGRAMMATIC—Streamlining the Processing of Experimental Permit Applications, Issuing Experimental Permits for the Launch and Reentry of Useable Suborbital Rockets.

Summary: No formal comment letter was sent to the preparing agency.

EIS No. 20090319, ERP No. F-USA-L11042-AK, U.S. Army Alaska (USARAK) Project, Proposes the Stationing and Training of Increased Aviation Assts, Fort Wainwright, Fairbank, AK.

Summary: EPA does not object to the proposed project.

EIS No. 20090327, ERP No. F-STB-L59004-AK, Northern Rail Extension Project, Construct and Operate a Rail Line between North Pole and Delta Junction, AK.

Summary: EPA continues to have environmental concerns about impacts to water quality and aquatic resources.

EIS No. 20090053, ERP No. FS-COE-E32070-MS, Gulfport Harbor Navigation Channel Project, To Evaluate Proposed Construction of Authorized Improvements to the Gulfport Harbor, Harrison County, MS.

Summary: While many of EPA's concerns were resolved, EPA continues to have environmental concerns about impacts to biological resources. EPA also requested the MPRSA Section 103 Evaluation and Sediment Testing Report to ensure that the disposal material meets the Ocean Dumping Criteria.

Dated: October 13, 2009.
Ken Mittelholtz
Deputy Director, NEPA Compliance Division, Office of Federal Activities.

[FR Doc. E9-24923 Filed 10-15-09; 8:45 am]

BILLING CODE 6560-50-P